DEPARTMENT OF THE INTERIOR

Bureau of Land Management

[UT-034-03-1220-DA]

Environmental Statements; Notice of Intent; Grand Staircase-Escalante National Monument, UT

AGENCY: Department of the Interior, Bureau of Land Management, Grand Staircase-Escalante National Monument, Utah.

ACTION: Notice of Intent to consider a proposed plan amendment and prepare an Environmental Assessment (EA) for the Grand Staircase-Escalante National Monument (GSENM) to allow consideration of toilet facilities at designated campsites in the Frontcountry and Passage Zones and to consider additional designated campsites beyond that currently allowed in the management plan. The Monument includes public lands in Garfield and Kane counties, Utah.

SUMMARY: Pursuant to the Bureau of Land Management (BLM) Planning Regulations (43 CFR part 1600) this notice advises the public that the BLM, GSENM is considering amending the GSENM Management Plan as it pertains to the installation of toilet facilities at designated campsites in the Frontcountry and Passage Zones and the number of designated campsites allowed in the Frontcountry and Passage Zones. Plan Decisions FAC-10 and FAC-15 state that toilet facilities will not be provided at designated campsites in the Frontcountry and Passage Zones. With increased visitor use, human waste has become a concern at some of the sites being considered for designation as primitive campsites. Language used in Plan Decision FAC-16 for the Outback Zone states in part that toilet facilities could be considered for protection of resources in limited cases where other tools to protect resources are ineffective. The plan amendment proposes to adopt this same language for the Frontcountry and Passage Zones so that toilet facilities could be considered at designated campsites for the protection of resources in these zones as well. Plan Decisions FAC-10 and FAC-15 limit the number of sites that can be designated for primitive camping to 10 in the Frontcountry Zone and 25 in the Passage Zone. Visitor use has exceeded expectations when the plan was developed and additional primitive campsites are needed to meet the public demand. The plan amendment proposes to allow additional primitive campsites to be designated in the Frontcountry and Passage Zones with no specific number of sites identified. Additional site specific analysis as required by the National Environmental Policy Act (NEPA) would be prepared for campsite designation.

DATES: This notice initiates a 30-day public scoping period. If you have information, data, or concerns related to the potential impacts of the proposed plan amendments, have comments on the planning criteria, or suggestions for alternatives, please submit them to the address below. Scoping comments must be received at the address below within 30 days of the date this notice is published in the Federal Register.

ADDRESSES: Written scoping comments should be sent to: Monument Manager, Grand Staircase-Escalante National Monument, 190 East Center Street, Kanab, Utah 84741. Planning documents and letters received, including names and street addresses of respondents, will be available for public review at the GSENM Office in Kanab, Utah during regular business hours (8 a.m. to 5 p.m.) Monday through Friday, except holidays. Individual respondents may request confidentiality. If you wish to withhold your name or street address from public review and disclosure under the Freedom of Information Act, you must state this prominently at the beginning of your written comment. Such requests will be honored to the extent allowed by law. All submissions from organizations or businesses, and from individuals identifying themselves as representatives or officials of organizations or businesses, will be made available for public inspection in their entirety and may be published as part of the EA. If you are not currently on our mailing list and wish to receive a copy of future planning documents, please send your name and address to the address listed above.

FOR FURTHER INFORMATION CONTACT: Barbara Sharrow, Assistant Monument Manager Visitor Services, 435-644-4312, or Dave Hunsaker, Monument Manager, 435-644-4330.

SUPPLEMENTARY INFORMATION: The BLM is preparing an EA to analyze the impacts of designating primitive campsites as required by the GSENM Management Plan. This EA will also be used to address the potential impacts of the proposed plan amendments as described above. The BLM has contracted with a third party, IHI Environmental of Salt Lake City, Utah to prepare the EA. The BLM has identified the following planning criteria, which will guide development of the amendment:

1. The proposed plan amendment and environmental analysis will be completed in compliance with the Federal Land Policy and Management Act (FLPMA), NEPA, and all other applicable laws.

2. The proposed plan amendment and environmental analysis will be developed using an interdisciplinary approach (e.g., a team approach using a variety of skills and perspectives such as biologists, archaeologists, etc.) with input from interested public, State and local governments, and other Federal agencies.

3. Analysis and decisions in the proposed plan amendment and environmental analysis apply only to this action and will provide for the balance of long term sustainability with short-term uses.

Dated: May 5, 2003.
Sally Wisely,
State Director.

[FR Doc. 03-15056 Filed 6-13-03; 8:45 am]

BILLING CODE 4310-22-P